DEPARTMENT OF JUSTICE

Antitrust Division

Notice Pursuant to the National Cooperative Research and Production Act of 1993—The Advanced Lead-Acid Battery Consortium

Notice is hereby given that, on May 28, 2019, pursuant to Section 6(a) of the National Cooperative Research and Production Act of 1993, 15 U.S.C. 4301 et seq. (“the Act”), Advanced Lead-Acid Battery Consortium (“ALABC”) has filed written notifications simultaneously with the Attorney General and the Federal Trade Commission disclosing changes in its status and membership. The notifications were filed for the purpose of extending the Act's provisions limiting the recovery of antitrust plaintiffs to actual damages under specified circumstances. Specifically, the members of ALABC have authorized its discontinuance, which was effective February 24, 2019.

On June 15, 1992, the ALABC filed its original notification pursuant to Section 6(a) of the Act. The Department of Justice published a notice in the Federal Register pursuant to Section 6(b) of the Act on July 29, 1992 (57 FR 33522).

The last notification was filed with the Department on March 21, 2002. A notice was published in the Federal Register pursuant to Section 6(b) of the Act on April 18, 2002 (67 FR 19252).

Suzanne Morris,
Chief, Premerger and Division Statistics Unit, Antitrust Division.

[FR Doc. 2019-12646 Filed 6-14-19; 8:45 am]

BILLING CODE 4410-11-P